OFFICE OF PERSONNEL MANAGEMENT

5 CFR Part 894

RIN 3206-AN58

Federal Employees Dental and Vision Insurance Program: Extension of Eligibility to Certain TRICARE-Eligible Individuals; Effective Date of Enrollment; Corrections

AGENCY: Office of Personnel Management.

ACTION: Correcting amendments.

SUMMARY: On November 19, 2018, the Office of Personnel Management (OPM) published revisions to its Federal Employees Dental and Vision Insurance Program regulations. That document discussed the term “TEI family member” but did not include the term in the instructions as a term to be added to the definitions section, so the definition could not be incorporated into the CFR. This document corrects the interim final regulations by adding the definition for “TEI family member” and also amending an incorrect reference regarding the restriction on dual enrollments.

DATES: This document is effective February 5, 2019.

FOR FURTHER INFORMATION CONTACT: For information, please contact Julia Elam, Program Analyst, at julia.elam@opm.gov or (202) 606-2128.

SUPPLEMENTARY INFORMATION: OPM has statutory responsibility to administer the Federal Employees Dental and Vision Insurance Program (FEDVIP) in accordance with 5 U.S.C. chapters 89A and 89B and implementing regulations (5 CFR part 894). Section 715 of Public Law 114-328, authorizes the Secretary of Defense to enter into an agreement with the OPM Director to allow certain TRICARE-eligible individuals to enroll, or to be covered under an enrollment in FEDVIP, and amends 5 U.S.C. 8951 and 8958(c) (dental benefits) and 5 U.S.C. 8981 and 8988(c) (vision benefits), to establish eligibility of certain TRICARE-eligible individuals to enroll so that they and their eligible family members may obtain dental and vision benefits under FEDVIP.

On November 19, 2018, OPM published Federal Employees Dental and Vision Insurance Program: Extension of Eligibility to Certain TRICARE-Eligible Individuals; Effective Date of Enrollment, interim final rule in the Federal Register (83 FR 58175) to amend 5 CFR part 894. This document corrects the regulations to include the term “TEI family member” that is referenced in § 894.101 (Definitions). This document also amends an incorrect cross reference in § 894.804 regarding the restriction on dual enrollments from § 894.203 to § 894.204.

Regulatory Impact Analysis

OPM has examined the impact of this rule as required by Executive Order 12866 and Executive Order 13563, which directs agencies to assess all costs and benefits of available regulatory alternatives and, if regulation is necessary, to select regulatory approaches that maximize net benefits (including potential economic, environmental, public, health, and safety effects, distributive impacts, and equity). A regulatory impact analysis must be prepared for major rules with economically significant effects of $100 million or more in any one year. This rule is not a “significant regulatory action,” under Executive Order 12866.

Reducing Regulation and Controlling Regulatory Costs

This rule is not E.O. 13771 regulatory action because this rule is not significant under E.O. 12866.

List of Subjects in 5 CFR Part 894

Administrative practice and procedure, Government employees, Health facilities, Health insurance, Health professions, Hostages, Iraq, Kuwait, Lebanon, Military personnel, Reporting and recordkeeping requirements, Retirement.

Accordingly, 5 CFR part 894 is corrected by making the following correcting amendments:

PART 894—FEDERAL EMPLOYEES DENTAL AND VISION INSURANCE PROGRAM

1. The authority citation for part 894 continues to read as follows:

Authority: 5 U.S.C. 8962; 5 U.S.C. 8992; Subpart C also issued under section 1 of Pub. L. 110-279, 122 Stat. 2604; Pub. L. 114-328.

Subpart A—Administration and General Provisions

2. Amend § 894.101 by adding a definition for “TEI family member” in alphabetical order to read as follows:

§ 894.101 Definitions.

* * * * *

TEI family member means a TEI who is a dependent with respect to a sponsor, as defined in 10 U.S.C. 1072(2)(A) (spouse), 10 U.S.C. 1072(2)(B) (unremarried widow), 10 U.S.C. 1072(2)(C) (unremarried widower), 10 U.S.C. 1072(2)(D) (child), or 10 U.S.C 1072(2)(I) (unmarried person).

* * * * *

Subpart H—Special Provisions for TRICARE-Eligible Individuals (TEI)

3. Amend § 894.804 by revising paragraph (a) to read as follows:

§ 894.804 Am I a sponsor for a FEDVIP dental or vision plan?

(a) Generally, the sponsor is the individual who is eligible for medical or dental benefits under 10 U.S.C. chapter 55 based on his or her direct affiliation with the uniformed services, including military members of the National Guard and Reserves. Relationship to a sponsor conveys TEI status to a TEI family member. If two parents of a TEI child are entitled to be a sponsor, see restriction on dual enrollment at § 894.204.

* * * * *

Office of Personnel Management.
Alexys Stanley,
Regulatory Affairs Analyst.

[FR Doc. 2019-00799 Filed 2-4-19; 8:45 am]

BILLING CODE 6325-64-P